DEPARTMENT OF COMMERCE

National Oceanic and Atmospheric Administration

[RTID 0648-XV170]

Pacific Fishery Management Council; Public Meeting

AGENCY: National Marine Fisheries Service (NMFS), National Oceanic and Atmospheric Administration (NOAA), Commerce.

ACTION: Notice of public meeting.

SUMMARY: The Pacific Fishery Management Council's (Pacific Council) and The Nature Conservancy are cosponsoring a two-day workshop: Developing Future Scenarios for Climate Change in the California Current Ecosystem, which is open to the public.

DATES: The meeting will be held on Wednesday, January 22 and Thursday, January 23, 2020, from 8 a.m. until the completion of business on each day.

ADDRESSES: The meeting will be held at the Hyatt Regency Orange County, Pacific Room, 11999 Harbor Blvd., Garden Grove, CA 92840; telephone: (714) 750-1234.

Council address: Pacific Fishery Management Council, 7700 NE Ambassador Place, Suite 101, Portland, OR 97220.

FOR FURTHER INFORMATION CONTACT: Dr. Kit Dahl, Pacific Council; telephone: (503) 820-2422.

SUPPLEMENTARY INFORMATION: The purpose of this workshop is to create several alternative narratives (called scenarios) about what west coast fishing communities might look like in 2040. The scenarios will be developed by invited scientific experts, fishery experts, and stakeholders. The workshop is part of a broader Council effort to respond strategically to near-term climate shifts and long-term climate change, and identify strategies to increase the resiliency of west coast fisheries and fishing communities in line with an ongoing initiative of its Fishery Ecosystem Plan. Members of the public are asked to register in advance through the following link: https://form.jotform.com/93296415530963. This will help the organizers plan workshop activities.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt, (503) 820-2412, at least 10 business days prior to the meeting date.

Authority: 16 U.S.C. 1801 et seq.

Dated: January 2, 2020.
Diane M. DeJames-Daly,
Acting Deputy Director, Office of Sustainable Fisheries, National Marine Fisheries Service.

[FR Doc. 2020-00013 Filed 1-6-20; 8:45 am]

BILLING CODE 3510-22-P